DEPARTMENT OF THE INTERIOR

U.S. Geological Survey

[USGS-GX12GL00DT70500]

Agency Information Collection Activities: Comment Request for National Geological and Geophysical Data Preservation Program (NGGDPP)

AGENCY: U.S. Geological Survey (USGS), Department of the Interior.

ACTION: Notice of an extension of a currently approved information collection.

SUMMARY: To comply with the Paperwork Reduction Act of 1995 (PRA), we (the U.S. Geological Survey) are notifying the public that we will submit to OMB an extension of a currently approved information collection (IC) for the National Geological and Geophysical Data Preservation Program (NGGDPP) under Section 351 of the Energy Policy Act of 2005. This notice provides the public and other Federal agencies an opportunity to comment on the paperwork burden of this information collection (IC). The existing IC is scheduled to expire on July 31, 2012. To submit a proposal to the NGGDPP, a project narrative must be completed and submitted via www.Grants.gov. Furthermore, a final technical report for all projects is required at the end of the project period. Narrative and report guidance is available through http://datapreservation.usgs.gov/ and at www.Grants.gov.

DATES: Submit written comments by May 1, 2012.

ADDRESSES: Please send your comments concerning the IC to the USGS Information Collection Clearance Officer, U.S. Geological Survey, 12201 Sunrise Valley Drive, MS 807, Reston, VA 20192 (mail); 703-648-7199 (fax); or smbaloch@usgs.gov (email). Please reference Information Collection 1028-0087.

FOR FURTHER INFORMATION CONTACT: Betty Adrian at (303) 202-4828 or by mail at U.S. Geological Survey, Box 25046, MS 975, Denver Federal Center, Denver, CO 80225, or by email at badrian@usgs.gov.

SUPPLEMENTARY INFORMATION: Title: National Geological and Geophysical Data Preservation Program (NGGDPP).

OMB Control Number: 1028-0087.

Abstract: Section 351 of the Energy Policy Act of 2005 directs the Secretary of the Interior, through the Director of the U.S. Geological Survey, as follows, “The Secretary shall carry out a National Geological and Geophysical Data Preservation Program in accordance with this section—

(1) To archive geologic, geophysical, and engineering data, maps, well logs, and samples;

(2) To provide a national catalog of such archival material; and

(3) To provide technical and financial assistance related to the archival material.” The Plan outlines program goals and recommends implementation strategies. An action item in the plan is to “begin interactions with State geological surveys and other DOI agencies that maintain geological and geophysical data and samples to address their preservation and data rescue needs.” In response, the USGS is requesting each state that elects to participate in the program to:

(1) Inventory their current collections and data preservation needs to provide a snapshot of the diversity of scientific collections held, supported, or used by State geological surveys. This inventory of current collections will form the foundation of the National Catalog;

(2) Build the National Catalog by providing site-specific metadata for items in inventoried collections. Focus on site-specific sample data allows broad national coverage with content useful to a wide variety of users. The types of sites cataloged will be determined by the holdings of participating states; and

(3) In FY 2010 and beyond, depending on appropriations, states would be invited to propose projects that address other priorities identified in the Implementation Plan for the National Geological and Geophysical Data Preservation Program, including: (a) Inventory collections of geological and geophysical data; (b) Digital infrastructure; (c) Metadata for items in data collections; and (d) Special data rescue needs.

Furthermore, annual data preservation priorities are provided in the Program Announcement as guidance for applicants to consider when submitting proposals. Annual priorities are determined by the USGS NGGDPP Catalog and Financial and Technical Assistance Committees comprising representatives from State geological surveys, industry, academia, and DOI. Since its inception in 2007, NGGDPP has awarded, and 44 states have matched, over $2,521,000 in grant funds.

This notice concerns the collection of information that is sufficient and relevant to evaluate and select proposals for funding. We will protect information from respondents considered proprietary under the Freedom of Information Act (5 U.S.C. 552) and implementing regulations (43 CFR Part 2), and under regulations at 30 CFR 250.197, “Data and information to be made available to the public or for limited inspection.” Responses are voluntary. No questions of a “sensitive” nature are asked. We intend to release the project abstracts and primary investigators for awarded/funded projects only.

Frequency: Annually.

Estimated Annual Number and Description of Respondents: Approximately 49 State Geological Surveys will have the opportunity to apply for matching Federal funds.

Respondent Obligation: Voluntary (necessary to receive benefits).

Estimated Total Number of Annual Responses: 34.

Estimated Annual Burden Hours: 1224 hours.

Estimated Annual Reporting and Recordkeeping “Hour” Burden: We estimate the public reporting burden averages 36 hours per response. This includes time (1) to write and review the proposal and submit it through www.Grants.gov and (2) prepare and submit the final technical report.

Estimated Annual Reporting and Recordkeeping “Non-Hour Cost”: We have not identified any “non-hour cost” burdens associated with this collection of information.

Request for Comments: We invite comments concerning this IC on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Please note that any comments submitted in response to this notice are a matter of public record. Before including your address, phone number, email address or other personal identifying information in your comment, you should be aware that your entire comment including your personal identifying information, may be made publically available at any time. While you can ask OMB in your comment to withhold your personal identifying information from public review, we cannot guarantee that will be done.

Dated: February 23, 2012.
Betty M. Adrian,
Acting Program Coordinator, National Geological and Geophysical Data, Preservation Program.

[FR Doc. 2012-5174 Filed 3-1-12; 8:45 am]

BILLING CODE 4311-AM-P